DEPARTMENT OF COMMERCE

National Oceanic and Atmospheric Administration

50 CFR Part 648

[Docket No.: 200428-0122]

RTID 0648-XA679

Fisheries of the Northeastern United States; Atlantic Herring Fishery; 2020 Directed Fishery Closure for Atlantic Herring Management Area 1B

AGENCY: National Marine Fisheries Service (NMFS), National Oceanic and Atmospheric Administration (NOAA), Commerce.

ACTION: Temporary rule; directed fishery closure.

SUMMARY: NMFS is closing the directed fishery for Herring Management Area 1B. This closure is required because NMFS projects that 92 percent of the catch allotted to Management Area 1B has been caught. This action is intended to prevent overharvest of Atlantic herring in Management Area 1B, which would result in additional quota reductions next year.

DATES: Effective 00:01 hr local time, November 25, 2020, through 24:00 local time, December 31, 2020.

FOR FURTHER INFORMATION CONTACT: Lou Forristall, Fishery Management Specialist, (978) 281-9321.

SUPPLEMENTARY INFORMATION: The Regional Administrator for the Greater Atlantic Region monitors Atlantic herring fishery catch in each of the management areas based on vessel and dealer reports, state data, and other available information. Based on this information, the Regional Administrator projects that the Atlantic herring fleet will catch 92 percent of the Management Area 1B sub-Annual Catch Limit (ACL) by November 25, 2020. Therefore, as required by 50 CFR 648.201(a)(1)(i), effective 00:01 hr local time November 25, 2020, federally permitted vessels may not fish for, possess, transfer, receive, land, or sell more than 2,000 lb (907.2 kg) of Atlantic herring per trip or calendar day, in or from Management Area 1B, through December 31, 2020. Vessels that have entered port before 00:01 hr local time, November 25, 2020, may land or sell more than 2,000 lb (907.2 kg) of Atlantic herring from Area 1B from that trip. A vessel may transit through Area 1B with more than 2,000 lb (907.2 kg) of Atlantic herring on board, provided all herring was caught outside Area 1B and all fishing gear is stowed and not available for immediate use as defined by 50 CFR 648.2. All herring vessels must land in accordance with state landing restrictions.

Effective 00:01 hr local time, November 25, 2020, through 24:00 hr local time, December 31, 2020, federally permitted dealers may not purchase, possess, receive, sell, barter, trade or transfer more than 2,000 lb (907.2 kg) of Atlantic herring per trip or calendar day from Area 1B from a vessel issued and holding a valid Federal herring permit, unless it is from a trip landed by a vessel that entered port before 00:01 hr local time, November 25, 2020.

Classification

NMFS issues this action pursuant to section 305(d) of the Magnuson-Stevens Act. This action is required by 50 CFR 648.201(a)(1)(i), which was issued pursuant to section 304(b), and is exempt from review under Executive Order 12866.

NMFS finds good cause pursuant to 5 U.S.C. 553(b)(3)(B) to waive prior notice and the opportunity for public comment because it is unnecessary and would be contrary to the public interest and impracticable. NMFS also finds good cause to waive the 30-day delayed effectiveness in accordance with 5 U.S.C 553(d)(3). NMFS is required by Federal regulation to implement a 2,000-lb (907.2-kg) herring trip limit for Management Area 1B through December 31, 2020, when 92 percent of the area quota is projected to be harvested. The 2020 herring fishing year opened on January 1, 2020, and Management Area 1B opened to fishing on May 1, 2020. Data indicating the herring fleet will have landed at least 92 percent of the 2020 sub-ACL allocated to Management Area 1B recently became available. Catch in this fishery increases relative to the sub-ACL quickly, especially in this fishing year where annual catch limits are unusually low. If implementation of this closure is delayed to solicit prior public comment, the sub-ACL for Management Area 1B for this fishing year will likely be exceeded, undermining conservation objectives of the Fishery Management Plan. If sub-ACLs are exceeded, the excess must also be deducted from a future sub-ACL and would reduce future fishing opportunities. In addition, the public had prior notice and full opportunity to comment on this process when these provisions were put in place. The public expects these actions to occur in a timely way consistent with the fishery management plan's objectives.

Authority: 16 U.S.C. 1801 et seq.

Dated: November 23, 2020.
Jennifer M. Wallace,
Acting Director, Office of Sustainable Fisheries, National Marine Fisheries Service.

[FR Doc. 2020-26303 Filed 11-24-20; 4:15 pm]

BILLING CODE 3510-22-P